DEPARTMENT OF COMMERCE

Foreign-Trade Zones Board

[B-47-2012]

Foreign-Trade Zone 74—Baltimore, MD, Notification of Proposed Production Activity, J.D. Neuhaus LP (Overhead Lifting Equipment Production) Sparks, MD

The Baltimore Development Corporation, grantee of FTZ 74, submitted a notification of proposed production activity on behalf of J.D. Neuhaus LP (J.D. Neuhaus), located in Sparks, Maryland. The notification conforming to the requirements of the regulations of the Board (15 CFR 400.22) was received on June 13, 2012.

The J.D. Neuhaus facility is located within Site 27 of FTZ 74. The facility is used for the production of customized overhead lifting equipment. Production under FTZ procedures could exempt J.D. Neuhaus from customs duty payments on the foreign status components used in export production. On its domestic sales, J.D. Neuhaus would be able to choose the duty rate during customs entry procedures that applies to overhead lifting equipment and their parts, including hoist and trolley systems, winches, and cranes (duty free) for the foreign status inputs noted below. Customs duties also could possibly be deferred or reduced on foreign status production equipment.

Components and materials sourced from abroad include: air and hydraulic powered hoist and trolley subassemblies and parts, cranes/winches and related parts, hoist chain, lubricating oils, plastic air hoses, rubber gaskets and o-rings, fasteners, springs, air filters, air pressure regulators, valves and related parts, and bearings and bearing components (duty rate ranges from free to 9%). The request indicates that certain bearings and bearing components are subject to an antidumping/countervailing duty (AD/CVD) order. The FTZ regulations (15 CFR 400.14(e)) require that merchandise subject to AD/CVD actions be admitted to the zone in privileged foreign status (19 CFR 146.41).

Public comment is invited from interested parties. Submissions shall be addressed to the Board's Executive Secretary at the address below. The closing period for their receipt is August 13, 2012.

A copy of the notification will be available for public inspection at the Office of the Executive Secretary, Foreign-Trade Zones Board, Room 2111, U.S. Department of Commerce, 1401 Constitution Avenue NW., Washington, DC 20230-0002, and in the “Reading Room” section of the Board's Web site, which is accessible via www.trade.gov/ftz.

For further information, contact Diane Finver at Diane.Finver@trade.gov (202) 482-1367.

Dated: June 25, 2012.
Andrew McGilvray,
Executive Secretary.

[FR Doc. 2012-16187 Filed 6-29-12; 8:45 am]

BILLING CODE P